DEPARTMENT OF ENERGY

Federal Energy Regulatory Commission

Combined Notice of Filings #1

Take notice that the Commission received the following exempt wholesale generator filings:

Docket Numbers: EG20-58-000.

Applicants: Jumbo Hill Wind Project, LLC.

Description: Notice of Self-Certification of Exempt Wholesale Generator Status of Jumbo Hill Wind Project, LLC.

Filed Date: 12/6/19.

Accession Number: 20191206-5042.

Comments Due: 5 p.m. ET 12/27/19.

Docket Numbers: EG20-59-000.

Applicants: East Fork Wind Project, LLC.

Description: Notice of Self-Certification of Exempt Wholesale Generator Status of East Fork Wind Project, LLC.

Filed Date: 12/6/19.

Accession Number: 20191206-5053.

Comments Due: 5 p.m. ET 12/27/19.

Take notice that the Commission received the following electric rate filings:

Docket Numbers: ER11-47-007; ER10-2981-007; ER11-41-007; ER11-46-010; ER12-1540-005; ER12-1541-005; ER12-1542-005; ER12-1544-005; ER12-2343-005; ER13-1896-011; ER14-2475-004; ER14-2476-004; ER14-2477-004; ER14-594-009; ER16-323-003.

Applicants: Appalachian Power Company, AEP Texas Central Company, AEP Retail Energy Partners LLC, AEP Energy Partners, Inc., Indiana Michigan Power Company, Kentucky Power Company, Kingsport Power Company, Wheeling Power Company, AEP Energy, Inc., AEP Generation Resources Inc., AEP Texas North Company, Public Service Company of Oklahoma, Southwestern Electric Power Company, Ohio Power Company, Ohio Valley Electric Corporation.

Description: Supplement to December 27, 2016 Updated Market Power Analysis in the PJM balancing area authority (Attachment B) of the AEP MBR Companies, et al.

Filed Date: 12/5/19.

Accession Number: 20191205-5191.

Comments Due: 5 p.m. ET 12/26/19.

Docket Numbers: ER15-230-002; ER12-862-002.

Applicants: GP Energy Management LLC, Power Supply Services LLC.

Description: Notice of Non-Material Change in Status of GP Energy Management LLC, et al.

Filed Date: 12/5/19.

Accession Number: 20191205-5189.

Comments Due: 5 p.m. ET 12/26/19.

Docket Numbers: ER19-2092-002.

Applicants: GridLiance Heartland LLC.

Description: Tariff Amendment: GHL OATT Deficiency Filing to be effective 12/31/9998.

Filed Date: 12/5/19.

Accession Number: 20191205-5133.

Comments Due: 5 p.m. ET 12/26/19.

Docket Numbers: ER20-54-001.

Applicants: Southwest Power Pool, Inc.

Description: Tariff Amendment: Errata Filing—Attachment M Revisions to update Loss Factor of Sunflower to be effective 12/31/9998.

Filed Date: 12/6/19.

Accession Number: 20191206-5059.

Comments Due: 5 p.m. ET 12/27/19.

Docket Numbers: ER20-516-000.

Applicants: Cubico Crooked Run Lessee, LLC.

Description: Baseline eTariff Filing: Application for Market-Based Rate Authority and Request for Waivers, et al. to be effective 12/5/2019.

Filed Date: 12/4/19.

Accession Number: 20191204-5168.

Comments Due: 5 p.m. ET 12/26/19.

Docket Numbers: ER20-529-000.

Applicants: Wilderness Line Holdings, LLC.

Description: Baseline eTariff Filing: Windstar LGIA & TSA to be effective 12/31/9998.

Filed Date: 12/5/19.

Accession Number: 20191205-5129.

Comments Due: 5 p.m. ET 12/26/19.

Docket Numbers: ER20-530-000.

Applicants: Avista Corporation.

Description: § 205(d) Rate Filing: Avista Corp FERC RS T1163 Saddle Mtn Cert of Concurrence to be effective 12/6/2019.

Filed Date: 12/5/19.

Accession Number: 20191205-5149.

Comments Due: 5 p.m. ET 12/26/19.

Docket Numbers: ER20-531-000.

Applicants: Midcontinent Independent System Operator, Inc.

Description: § 205(d) Rate Filing: 2019-12-06_SA 3381 Duke-Greensboro Solar Center GIA (J903) to be effective 11/21/2019.

Filed Date: 12/6/19.

Accession Number: 20191206-5004.

Comments Due: 5 p.m. ET 12/27/19.

Docket Numbers: ER20-532-000.

Applicants: New York State Electric & Gas Corporation, New York Independent System Operator, Inc.

Description: § 205(d) Rate Filing: 205 filing re: Utility Services Agreement (SA 2497) between NYSEG and NEETNY to be effective 11/11/2019.

Filed Date: 12/6/19.

Accession Number: 20191206-5028.

Comments Due: 5 p.m. ET 12/27/19.

Docket Numbers: ER20-533-000.

Applicants: Niagara Mohawk Power Corporation, New York Independent System Operator, Inc.

Description: § 205(d) Rate Filing: 205 filing re: SGIA (SA 2498) between Niagara Mohawk and GR Catalyst Two LLC to be effective 11/26/2019.

Filed Date: 12/6/19.

Accession Number: 20191206-5031.

Comments Due: 5 p.m. ET 12/27/19.

Docket Numbers: ER20-534-000.

Applicants: Northern States Power Company, a Minnesota corporation.

Description: § 205(d) Rate Filing: NSP-ITCM-CMA-Huntley-Wilmarth-345kV-Agrmt to be effective 10/31/2019.

Filed Date: 12/6/19.

Accession Number: 20191206-5070.

Comments Due: 5 p.m. ET 12/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2019.
Nathaniel J. Davis, Sr.,
Deputy Secretary.

[FR Doc. 2019-26757 Filed 12-11-19; 8:45 am]

BILLING CODE 6717-01-P